DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed information collection project “Consumer Assessment of Healthcare Providers and Systems (CAHPS) Home and Community Based Services (HCBS) Survey Database.”

DATES: Comments on this notice must be received by May 20, 2019.

ADDRESSES: Written comments should be submitted to: Doris Lefkowitz, Reports Clearance Officer, AHRQ, by email at doris.lefkowitz@AHRQ.hhs.gov.

Copies of the proposed collection plans, data collection instruments, and specific details on the estimated burden can be obtained from the AHRQ Reports Clearance Officer.

FOR FURTHER INFORMATION CONTACT: Doris Lefkowitz, AHRQ Reports Clearance Officer, (301) 427-1477, or by emails at doris.lefkowitz@AHRQ.hhs.gov.

SUPPLEMENTARY INFORMATION:

Proposed Project

Consumer Assessment of Healthcare Providers and Systems (CAHPS®) Home and Community Based Services (HCBS) Survey Database

In accordance with the Paperwork Reduction Act, 44 U.S.C. 3501-3521, AHRQ invites the public to comment on this proposed information collection. The CAHPS Home and Community-Based Services Survey is the first cross-disability survey of home and community-based service beneficiaries' experience receiving long-term services and supports. It is designed to facilitate comparisons across state Medicaid HCBS programs throughout the country that target adults with disabilities, e.g., including frail elderly, individuals with physical disabilities, persons with developmental or intellectual disabilities, those with acquired brain injury and persons with severe mental illness.

The HCBS CAHPS Survey was developed by the Centers for Medicare & Medicaid Services (CMS) for voluntary use by state Medicaid programs, including both fee-for-service HCBS programs as well as managed long-term services and supports (MLTSS) programs. States with adequate sample sizes may consider using survey metrics in value-based purchasing initiatives.

The HCBS-CAHPS Database will serve as a primary source of data available to states, agency programs and researchers to help answer important questions related to beneficiary experiences. AHRQ, through its contractor, will collect and make available de-identified survey data, enabling HCBS programs to identify areas where quality can be improved.

Rationale for the information collection. Aggregated HCBS-CAHPS Database results will be made publicly available on AHRQ's CAHPS website. Technical assistance will be provided by AHRQ, through its contractor, at no charge to programs to facilitate the access and use of these materials for quality improvement and research. Technical assistance will also be provided to support HCBS-CAHPS data submission.

The HCBS-CAHPS Database will support AHRQ's goals of promoting improvements in the quality and patient-centeredness of health care in home or community-based care settings. This research has the following goals:

1. Improve care provided by individual providers and state programs.

2. Offer several products and services, including providing survey results presented through an Online Reporting System, summary chartbooks, custom analyses, private reports and data for research purposes.

3. Provide information to help identify strengths and areas with potential for improvement in patient care.

This study is being conducted by AHRQ through its contractor, Westat, pursuant to AHRQ's statutory authority to conduct and support research on health care and on systems for the delivery of such care, including activities with respect to the quality, effectiveness, efficiency, appropriateness and value of health care services; quality measurement and improvement; and health surveys and database development 42 U.S.C. 299a(a)(1) and (2), and (8).

Method of Collection

The development and operation of the HCBS-CAHPS Database will include the following major components undertaken by AHRQ through its contractor. To achieve the goals of this project, the following activities and data collections that constitute information collection under the Paperwork Reduction Act (PRA) will be implemented:

• Registration with the site to obtain an account with a secure username and password: The point-of-contact (POC) completes an online registration form, providing contact and organizational information required to initiate the registration process.

• Submission of signed Data Use Agreements (DUAs) and survey questionnaires: The data use agreement completed by the participating organization provides confidentiality assurances and states how the data submitted will be used.

• Submission of program information form: The POC completes an online information form to describe organizational characteristics of the program.

• Submission of de-identified survey data files: POCs upload data files in the format specified in the data file specifications to ensure data submitted is standardized and consistently named and coded.

• Follow-up with submitters in the event of a rejected file, to assist in making corrections and resubmitting the file.

Estimated Annual Respondent Burden

Exhibit 1 shows the estimated burden hours for the respondents to participate in the database. The 51 POCs in Exhibit 1 represent the 51 states or agencies that will administer the Adult HCBS survey. An estimated 13 survey vendors will assist them.

Each state or agency will register online for submission. The online Registration form will require about 5 minutes to complete. Each submitter will also complete a program information form of information about each program such as the name of the program, program size, state, etc. The online program information form takes on average 5 minutes to complete. The data use agreement will be completed by each of the 51 participating States. Survey vendors do not sign or submit DUAs. The DUA requires about 3 minutes to sign and return by fax or mail. Each submitter, which in most cases will be the survey vendor performing the data collection, will provide a copy of their questionnaire and the survey data file in the required file format. Survey data files must conform to the data file layout specifications provided by the HCBS-CAHPS Database. Since the unit of analysis is at the program level, submitters will upload one data file per program. Once a data file is uploaded the file will be automatically checked to ensure it conforms to the specifications and a data file status report will be produced and made available to the submitter. Submitters will review each report and will be expected to correct any errors in their data file and resubmit if necessary. It will take about one hour to submit the data for each program. The total burden is estimated to be 63 hours annually.

Exhibit 1—Estimated Annualized Burden Hours
Form name | Number of respondents/ POCs | Number of responses per POC | Hours per response | Total burden hours
Registration Form | 51 | 1 | 5/60 | 4.25
Program Information Form | 51 | 1 | 5/60 | 4.25
Data Use Agreement | 51 | 1 | 3/60 | 2.5
Data Files Submission | 13 | 4 | 1 | 52
Total | 166 | NA | NA | 63

Exhibit 2 shows the estimated annualized cost burden based on the respondents' time to complete one submission process. The cost burden is estimated to be $2,880 annually.

Exhibit 2—Estimated Annualized Cost Burden
Form name | Number of respondents | Total burden hours | Average hourly wage rate * | Total cost burden
Registration Form | 51 | 4.25 | ᵃ 53.69 | $228
Program Information Form | 51 | 4.25 | ᵃ 53.69 | 228
Data Use Agreement | 51 | 2.5 | ᵇ 94.25 | 236
Data Files Submission | 13 | 52 | ᶜ 42.08 | 2,188
Total | ** 166 | 63 | NA | 2,880
* National Compensation Survey: Occupational wages in the United States May 2017, “U.S. Department of Labor, Bureau of Labor Statistics.”
ᵃ Based on the mean hourly wage for Medical and Health Services Managers (11-9111).
ᵇ Based on the mean hourly wage for Chief Executives (11-1011).
ᶜ Based on the mean hourly wages for Computer Programmer (15-1131).
** The 51 POCs listed for the registration form, program information form and the data use agreement are the estimated POCs from the estimated participating programs.

Request for Comments

In accordance with the Paperwork Reduction Act, comments on AHRQ's information collection are requested with regard to any of the following: (a) Whether the proposed collection of information is necessary for the proper performance of AHRQ's health care research and health care information dissemination functions, including whether the information will have practical utility; (b) the accuracy of AHRQ's estimate of burden (including hours and costs) of the proposed collection(s) of information; (c) ways to enhance the quality, utility and clarity of the information to be collected; and (d) ways to minimize the burden of the collection of information upon the respondents, including the use of automated collection techniques or other forms of information technology.

Comments submitted in response to this notice will be summarized and included in the Agency's subsequent request for OMB approval of the proposed information collection. All comments will become a matter of public record.

Gopal Khanna,
Director.

[FR Doc. 2019-05141 Filed 3-18-19; 8:45 am]

BILLING CODE 4160-90-P